DEPARTMENT OF HEALTH AND HUMAN SERVICES

Administration for Children and Families

Proposed Information Collection Activity; Comment Request

Title: Data Collection Plan for a Follow-up Survey with Child Welfare Information Gateway Customers.

OMB No.: New Collection.

Description: The proposed information collection activity includes a follow-up survey designed to assess how professional customers are using information received from Child Welfare Information Gateway. Child Welfare Information Gateway is a service of the Children's Bureau, a component within the Administration for Children and Families, and is dedicated to the mission of connecting professionals and concerned citizens to information on programs, research, legislation, and statistics regarding the safety, permanency, and well-being of children and families. The follow-up survey will gather data about how professionals use Child Welfare Information Gateway's information services in their work. Survey findings will be applied to make continuous improvements to Child Welfare Information Gateway's Web site and other information services.

Respondents: Child Welfare Information Gateway professional users.

Annual Burden Estimates
Instrument | Number of respondents | Number of responses per respondent | Average burden hours per response | Total burden hours
Private Sector—Follow-up Survey | 100 | 1 | 0.167 | 16.7
State, Local or Tribal Goverments—Follow-up Survey | 100 | 1 | 0.167 | 16.7

Estimated Total Annual Burden Hours: 33.4 hours.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (e) ways to minimize the burden information to be collected; and (d) ways to minimize the burden of the collection of information on respondents, including through the use of automated collection techniques or other forms of information technology. Consideration will be given to comments and suggestions submitted within 60 days of this publication.

Robert Sargis,
Reports Clearance Officer.

[FR Doc. 2012-17812 Filed 7-20-12; 8:45 am]

BILLING CODE 4184-01-P